NATIONAL SCIENCE FOUNDATION

Membership of National Science Foundation's Senior Executive Service Performance Review Board

AGENCY: National Science Foundation.

ACTION: Announcement of Membership of the National Science Foundation's Senior Executive Service Performance Review Board.

SUMMARY: This announcement of the membership of the National Science Foundation's Senior Executive Service Performance Review Board is made in compliance with 5 U.S.C. 4314(c)(4).

ADDRESSES: Comments should be addressed to Division Director, Division of Human Resource Management, National Science Foundation, Room 315, 4201 Wilson Boulevard, Arlington, VA 22230.

FOR FURTHER INFORMATION CONTACT: Ms. Dianne Campbell Krieger at the above address or (703) 292-5194.

SUPPLEMENTARY INFORMATION: The membership of the National Science Foundation's Senior Executive Service Performance Review Board is as follows:

Richard Buckius, Chief Operating Officer, Chairperson

Dorothy Aronson, Division Director, Division of Information Systems

Suzanne C. Iacono, Office Head, Office of Integrative Activities

Sylvia M. James, Division Director, Division of Human Resource Development

Denise Caldwell, Division Director, Division of Physics

Brian W. Stone, Chief of Staff, Office of the Director

Joanne Tornow, Head, Office of Information and Resource Management and Chief Human Capital Officer

Dianne Campbell Krieger, Division Director, Division of Human Resource Management and PRE Executive Secretary

Dated: October 3, 2016.
Dianne Campbell Krieger,
Division Director, Division of Human Resource Management.

[FR Doc. 2016-24958 Filed 10-14-16; 8:45 am]

BILLING CODE 7555-01-M